DEPARTMENT OF HOMELAND SECURITY

Coast Guard

[Docket No. USCG-2010-0164]

National Boating Safety Advisory Council; April 2020 Teleconference

AGENCY: U.S. Coast Guard, Department of Homeland Security.

ACTION: Notice of Federal Advisory Committee teleconference meeting.

SUMMARY: The National Boating Safety Advisory Council (Council) and its working groups will meet via teleconference to discuss matters relating to recreational boating safety. These meetings will be open to the public.

DATES: Meeting: The National Boating Safety Advisory Council and its working groups will meet by teleconference on Wednesday, April 22, 2020, from 1:00 p.m. until 5:00 p.m. (Eastern Daylight Time). The teleconference may adjourn early if the Council has completed its business.

Comments and supporting documentation: To ensure your comments are received by Council members before the teleconference, submit your written comments no later than April 15, 2020.

ADDRESSES: To join the teleconference or to request special accommodations, contact the individual listed in the FOR FURTHER INFORMATION CONTACT section no later than 1 p.m. on April 15, 2020, to obtain the needed information. The number of teleconference lines is limited and will be available on a first-come, first-served basis.

Instructions: You are free to submit comments at any time, including orally at the teleconference as time permits, but if you want Council members to review your comment before the teleconference, please submit your comments no later than April 15, 2020. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2010-0164]. Comments received will be posted without alteration at http://www.regulations.gov, including any personal information provided. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Jeff Decker, Alternate Designated Federal Officer of the National Boating Safety Advisory Council, 2703 Martin Luther King Jr. Ave SE, Stop 7509, Washington, DC 20593-7509, telephone 202-372-1507 or NBSAC@uscg.mil.

SUPPLEMENTARY INFORMATION: Notice of this meeting is given pursuant to the Federal Advisory Committee Act, (5 U.S.C., Appendix). Congress established the National Boating Safety Advisory Council in the Federal Boat Safety Act of 1971 (Public Law 92-75). The National Boating Safety Advisory Council provides advice and recommendations to the Department of Homeland Security on matters relating to recreational vessels and associated equipment and on other safety matters related to recreational vessels.

Agenda

The agenda for the National Boating Safety Advisory Council meeting is as follows:

Wednesday, April 22, 2020

(1) Call to Order.

(2) Opening remarks.

(3) Receipt and discussion of the following reports from the Office of Auxiliary and Boating Safety:

(a) Update on the U.S. Coast Guard's implementation of National Boating Safety Advisory Council Recommendations and Recreational Boating Safety Program Report.

(b) Alternate Designated Federal Officer's report concerning Council administrative and logistical matters including updates on key elements affecting the Council.

(c) 2019 National Recreational Boating Safety Survey Results.

(d) BSX-22 update on the National Recreational Boating Grant Program.

(e) Update on the current USCG RBS Strategic Plan and discussion of the 2022-2026 Strategic Plan.

(4) National Boating Safety Advisory Council discussion on initiating a boating safety program on the use and benefits of cut-off switches for recreational vessels.

(5) National Boating Safety Advisory Council discussion on exemption from carriage of throwable personal flotation devices requirement for rafts over 16 feet in length.

(6) National Boating Safety Advisory Council discussion on Associated Equipment; specifically related to protective gear for Personal Watercraft operators and passengers and in general when applied to all boats.

(7) Update of the National Association of State Boating Law Administrator's Engineering, Research and Analysis committee's work over the past year and next steps.

(8) Presentation and discussion on the Sport Fish Restoration and Boating Safety Trust Fund.

(9) Closing remarks/plans for next meeting.

(10) Adjournment of meeting.

A copy of all meeting documentation will be available at https://homeport.uscg.mil/missions/ports-and-waterways/safety-advisory-committees/nbsac no later than April 15, 2020. Alternatively, you may contact Mr. Jeff Decker as noted in the FOR FURTHER INFORMATION CONTACT section above.

During the April 22, 2020 teleconference, a public comment period will be held from approximately 3:00 p.m.-3:30 p.m. Public comments will be limited to two minutes per speaker. Please note that the public comment periods will end following the last call for comments.

Please contact the individual listed in the FOR FURTHER INFORMATION CONTACT section, to register as a speaker.

Dated: March 30, 2020.
David Barata,
Captain, U.S. Coast Guard, Director of Inspections and Compliance.

[FR Doc. 2020-06964 Filed 4-2-20; 8:45 am]

BILLING CODE 9110-04-P